DEPARTMENT OF COMMERCE

National Oceanic and Atmospheric Administration

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Tuesday, April 14, 2015 through Thursday, April 16, 2015. For agenda details, see SUPPLEMENTARY INFORMATION.

ADDRESSES: The meeting will be held at: Ocean Place Resort, One Ocean Blvd., Long Branch, NJ 07740, telephone: (732) 571-4000.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, webinar listen-in access, and briefing materials.

SUPPLEMENTARY INFORMATION: The following items are on the agenda, though agenda items may be addressed out of order (changes will be noted on the Council's Web site when possible.)

Tuesday, April 14, 2015

12:30 p.m.-2 p.m.

Executive Committee (Closed Session)

—Review and approve Advisory Panel recommendations

2 p.m.

Council Convenes

2 p.m.-5:00 p.m.

Ecosystem Approach to Fisheries Management

—Discuss management approaches which address climate change and variability

—Discuss regulatory alternatives to address unmanaged forage fish

Wednesday, April 15, 2015

9 a.m.

Council Convenes

9 a.m.-10:30 a.m.

Golden Tilefish

—Review 2016 specifications

—Discuss timetable for Framework

10:30 a.m.-11:30 a.m.

2015 Implementation Plan

—Consider initiation of Deepwater Complex FMP

—Review and approve possible revisions to the Plan

11:30 a.m.-12 p.m.

Control Rule Clarifications

—Review staff and SSC recommendations

—Approve changes in regulatory language

1:30 p.m.-2 p.m.

Industry Funded Observer Amendment

—Discuss and approve additional alternatives for Public Hearing Document

2 p.m.-2:30 p.m.

River Herring Technical Expert Working Group (TEWG)

—Update on recent activities

2:30 p.m.-3 p.m.

Delaware River Herring/Shad Recreational Fishery, John Punola

3 p.m.-4 p.m.

Bycatch Reduction in Summer Flounder Recreational Fishery, Dr. Jim Salierno and Carl Benson

4 p.m.-5 p.m.

Proposed Rule—National Standards 1, 3, and 7, Deb Lambert

5 p.m.-6 p.m.

Listening Session—Squid Capacity Amendment Scoping, Jason Didden

Thursday, April 16, 2015

9 a.m.

Council Convenes

9 a.m.-1 p.m.

Business Session

Organization Reports

—NMFS Greater Atlantic Regional Office

—NMFS Northeast Fisheries Science Center

—NOAA Office of General Counsel

—NOAA Office of Law Enforcement

—U.S. Coast Guard

—Atlantic States Marine Fisheries Commission

Liaison Reports

—New England Council

—South Atlantic Council

Executive Director's Report, Chris Moore

—Review and approve changes to Council SOPPs

Science Report, Rich Seagraves

Committee Reports

—SSC

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: March 25, 2015.
Tracey L. Thompson,
Acting Deputy Director, Office of Sustainable Fisheries, National Marine Fisheries Service.

[FR Doc. 2015-07157 Filed 3-27-15; 8:45 am]

BILLING CODE 3510-22-P